DEPARTMENT OF ENERGY

Federal Energy Regulatory Commission

[Docket No. RP00-83-000]

Texas Gas Transmission Company; Notice of Technical Conference

February 7, 2000.

In the Commission's order issued on January 12, 2000, the Commission directed that a technical conference be held to address issues raised by the filing.

Take notice that the technical conference will be held on Thursday, March 2, 2000, at 11 a.m., in a room to be designated at the offices of the Federal Energy Regulatory Commission, 888 First Street, NE., Washington, DC 20426.

All interested parties and Staff are permitted to attend.

David P. Boergers,
Secretary.

[FR Doc. 00-3319 Filed 2-11-00; 8:45 am]

BILLING CODE 6717-01-M